FEDERAL COMMUNICATIONS COMMISSION

Public Information Collection Approved by Office of Management and Budget

May 15, 2001.

The Federal Communications Commission (FCC) has received Office of Management and Budget (OMB) approval for the following public information collections pursuant to the Paperwork Reduction Act of 1995, Public Law 96-511. An agency may not conduct or sponsor a collection of information unless it displays a currently valid control number. Not withstanding any other provisions of law, no person shall be subject to any penalty for failing to comply with a collection of information subject to the Paperwork Reduction Act (PRA) that does not display a valid control number. Questions concerning the OMB control numbers and expiration dates should be directed to Judy Boley, Federal Communications Commission, (202) 418-0214.

Federal Communications Commission

OMB Control No.: 3060-0809.

Expiration Date: 04/30/03.

Title: Communications Assistance for Law Enforcement Act, Report and Order and Order on Reconsideration.

Form No.: N/A.

Estimated Annual Burden: 36,000 burden hours annually, 6 hours per response; 6,000 responses.

Description: The information filed with the Commission will be used to verify telecommunications carriers' conformance with the CALEA requirements, and the information made available to law enforcement officials will be used to determine the accountability and accuracy of telecommunications carriers' compliance with lawful electronic surveillance orders.

OMB Control No.: 3060-0957.

Expiration Date: 05/31/04.

Title: Wireless Enhanced 911 Service, Fourth MO&O.

Form No.: N/A.

Estimated Annual Burden: 7,500 burden hours annually, approximately 3 hours per response; 2,500 responses.

Description: The Commission will use the information submitted by petitioners to ensure that carriers comply with critically important Phase II requirements in an orderly, timely, comprehensive fashion with no unnecessary delay.

Federal Communications Commission.
Magalie Roman Salas,
Secretary.

[FR Doc. 01-13243 Filed 5-24-01; 8:45 am]

BILLING CODE 6712-01-P